FEDERAL COMMUNICATIONS COMMISSION

Notice of Public Information Collection(s) Being Reviewed by the Federal Communications Commission, Comments Requested.

June 9, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 18, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0935.

Title: Cable Industry Survey on Channel Capacity and Retransmission Consent.

Form Number: n/a.

Type of Review: Extension of a currently approved collection.

Respondents: Business and other for-profit entities and Individuals and households.

Number of Respondents: 16.

Estimated Time Per Response: 12 hours.

Frequency of Response: One-time filing requirement.

Total Annual Burden: 192 hours.

Total Annual Costs: $17,280.

Needs and Uses: The data collected will be used by the Commission to build a record and to determine how to proceed on the mandatory carriage issues in the pending rulemaking. The data gleaned from the survey will be incorporated in the next Report and Order in CS Docket No. 98-120.

OMB Control Number: 3060-0544.

Title: Commercial Leased Access Channels—Section 76.701.

Form Number: n/a.

Type of Review: Extension of a currently approved collection.

Respondents: Business and other for-profit entities.

Number of Respondents: 100.

Estimated Time Per Response: 8 hours.

Frequency of Response: On occasion filing requirement.

Total Annual Burden: 800 hours.

Total Annual Costs: 0.

Needs and Uses: Permitting cable operators to adopt policies regarding programming gives operators alternatives to banning broadcasts; for example, by adopting policies to rearrange broadcast times so as to accommodate adult audiences while lessening the risks of harm to children.

OMB Control Number: 3060-0780.

Title: Uniform Rate-Setting Methodology.

Form Number: n/a.

Type of Review: Extension of a currently approved collection.

Respondents: Business and other for-profit entities and State, local or tribal governments.

Number of Respondents: 160.

Estimated Time Per Response: 20 or 50 hours.

Frequency of Response: On occasion filing requirement.

Total Annual Burden: 3,500 hours.

Total Annual Costs: $900.

Needs and Uses: Uniform rates proposals will be filed with the Commission and served on all affected LFAs. The rate proposals, comments received from LFAs and replies received from cable operators will be reviewed by the Commission in considering whether the interests of subscribers will be protected under the new rate proposal.

Federal Communications Commission.
Magalie Roman Salas,
Secretary.

[FR Doc. 00-15376 Filed 6-16-00; 8:45 am]

BILLING CODE 6712-01-P